DEPARTMENT OF COMMERCE

National Oceanic and Atmospheric Administration

Draft Damage Assessment, Restoration Plan and Environmental Assessment for the T/B DBL 152 Oil Spill in the Gulf of Mexico

AGENCY: National Oceanic and Atmospheric Administration (NOAA), Commerce.

ACTION: Notice of Availability of a Draft Damage Assessment and Restoration Plan and Environmental Assessment for the T/B DBL 152 Oil Spill in the Gulf of Mexico, Request for Comments.

SUMMARY: NOAA, the Natural Resource Trustee for this incident has written a Draft Damage Assessment and Restoration Plan and Environmental Assessment (Draft DARP/EA) that describes proposed alternatives for restoring natural resource injuries resulting from the November 11, 2005, T/B DBL 152 oil spill in the Gulf of Mexico. The purpose of this notice is to inform the public of the availability of the Draft DARP/EA and to seek written comments on the proposed restoration alternative.

FOR FURTHER INFORMATION CONTACT: Chris Plaisted, NOAA/GCNR, 501 W. Ocean Blvd., Suite 4470, Long Beach, CA 90802, 562-980-4080.

Written comments on the Draft DARP/EA should be submitted to: Chris Plaisted, NOAA/GCNR, FAX: 562-980-4065. Alternatively, comments may be submitted electronically at www.regulations.gov (Docket I.D.: NOAA-NMFS-2013-0034). All comments received, including names and addresses will become a part of the administrative record.

The Draft DARP/EA is available at: http://www.darrp.noaa.gov/southeast/dbl152/admin.html. Comments on the Draft DARP/EA must be submitted in writing on or before April 15, 2013.

SUPPLEMENTARY INFORMATION: On November 11, 2005, while en route from Houston, Texas, to Tampa, Florida, the integrated tug-barge unit comprised of the tugboat “Rebel” and the double-hull Tank Barge (T/B) DBL 152 struck the submerged remains of a pipeline service platform in the Gulf of Mexico that collapsed during Hurricane Rita. An estimated 45,846 barrels of oil (1,925,532 gallons) were discharged into federal waters of the Gulf of Mexico as a result of this incident, most of which sank to the ocean floor. Of this volume, an estimated 2,355 barrels (98,910 gallons) were recovered by divers. In total, an estimated 43,491 barrels (1,826,622 gallons) of oil remained unrecovered at the time submerged oil cleanup operations were discontinued in January 2006.

Government agencies responded to the incident to supervise and assist in clean-up and begin assessing the impact of the spill on natural resources. Under the federal Oil Pollution Act (OPA), the National Oceanic and Atmospheric Administration (NOAA), of the Department of Commerce, is responsible for restoring natural resources injured by the T/B DBL 152 oil spill with funding from either the responsible party (RP) or, where an RP does not exist or exceeds its limit of liability, the Oil Spill Liability Trust Fund (OSLTF) administered by the U.S. Coast Guard (USCG).

NOAA, acting as Trustee on the public's behalf, has conducted a natural resource damage assessment (NRDA) to determine the nature and extent of natural resource losses resulting from this incident and the restoration actions needed to restore these losses. The NRDA was conducted using the OPA NRDA regulations found at 15 CFR part 990. On the basis of data provided by the NRDA, NOAA prepared this Draft Damage Assessment and Restoration Plan/Environmental Assessment (Draft DARP/EA) to consider restoration alternatives. The purpose of presenting this Draft DARP/EA for comment is to inform the public about the NRDA and restoration planning efforts that were conducted following the oil spill. Further, the Trustees seek comments on the proposed restoration alternative presented in this Draft DARP/EA, and will consider written comments received during the public comment period before developing the Final Restoration Plan (Final Plan).

An injury assessment conducted by NOAA determined that the primary injury resulting from this incident was to offshore benthic habitat. This conclusion is described in greater detail in the Draft DARP/EA.

NOAA considered various restoration alternatives to compensate the public for spill-related injuries and to restore similar types of natural resource services as those that were provided by the resources injured by the spill. The preferred restoration alternative identified by NOAA is an estuarine shoreline protection and salt marsh restoration project at the Texas Chenier Plain National Wildlife Refuge Complex. The project area is located in Galveston Bay, Texas. The project is designed to protect shoreline with a protective structure consisting of rip-rap habitat. The project will be designed so that salt marsh habitat will be created behind the breakwater.

USCG has determined that the RP has exceeded its limit of liability under OPA. Therefore, the Final DARP/EA will be submitted to the Oil Spill Liability Trust Fund (OSLTF) as part of a claim for funds to implement the selected restoration project. The OSLTF is administered by the USCG and is maintained through fees paid by industry.

Administrative Record: Pursuant to the OPA NRDA regulations, the Trustees have developed an Administrative Record to support their restoration planning decisions and inform the public of the basis of their decisions. Additional information and documents, including public comments received on this Draft DARP/EA, the Final Restoration Plan, and other related restoration planning documents, will also become part of the Administrative Record. The documents comprising the public record (Administrative Record) can be viewed at http://www.darrp.noaa.gov/southeast/dbl152/admin.html.

Dated: February 22, 2013.
David G. Westerholm,
Director, Office of Response and Restoration, National Ocean Service, National Oceanic and Atmospheric Administration.

[FR Doc. 2013-06137 Filed 3-15-13; 8:45 am]

BILLING CODE 3510-JE-P